DEPARTMENT OF ENERGY

Federal Energy Regulatory Commission

Notice of Application to Amend License and Soliciting Comments, Motions to Intervene, and Protests

January 30, 2003.

Take notice that the following hydroelectric application has been filed with the Commission and is available for public inspection: a. Application Type: Change in project boundary. b. Project No.: 1984-092. c. Date Filed: December 5, 2002; January 7, 2003 (supplement). d. Applicant: Wisconsin River Power Company (WRPC). e. Name of Project: Petenwell and Castle Rock Hydroelectric Project. f. Location: The project is located on the Wisconsin River in Adams, Wood, and Juneau Counties, Wisconsin. The land that would be excluded from the project by the proposed boundary change is located adjacent to Plank Hill Lane on the Petenwell Flowage in Wood County. g. Filed Pursuant to: Federal Power Act, 16 U.S.C. 791(a)-825(r). h. Applicant Contact: Shawn Puzen, P.O. Box 19001, Green Bay, Wisconsin 54307-9001. Phone: (920) 433-1094. i. FERC Contact: Steve Naugle, steven.naugle@ferc.gov, 202-502-6061. j. Deadline for Filing Comments and or Motions: February 21, 2003. k. Description of the Application: WRPC requests Commission approval to change the project boundary to remove a 4.37-acre parcel of land from the project. WRPC intends to convey the land parcel to Mr. Richard Skibba, an adjacent landowner, for the construction of a home. l. Locations of the Application: This filings are available for review at the Commission in the Public Reference Room or may viewed on the Commission's Web site at http://www.ferc.gov using the “FERRIS” link. Enter the docket number excluding the last three digits in the docket number field to access the document. For assistance, please contact FERC Online Support at FERCOnlineSupport@ferc.gov or toll-free at (866) 208-3676, or for TTY, contact (202) 502-8659. A copy is also available for inspection and reproduction at the address in item h above. m. Individuals desiring to be included on the Commission's mailing list should so indicate by writing to the Secretary of the Commission. n. Comments, Protests, or Motions to Intervene—Anyone may submit comments, a protest, or a motion to intervene in accordance with the requirements of rules of practice and procedure, 18 CFR 385.210, .211, .214. In determining the appropriate action to take, the Commission will consider all protests or other comments filed, but only those who file a motion to intervene in accordance with the Commission's rules may become a party to the proceeding. Any comments, protests, or motions to intervene must be received on or before the specified comment date for the particular application. o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. Any of the above-named documents must be filed by sending an original and eight copies to: The Secretary, Federal Energy Regulatory Commission, 888 First Street, NE., Washington, DC 20426. A copy of any motion to intervene must also be served upon each representative of the applicant specified in the particular application. p. Comments, protests, and interventions may be filed electronically via the Internet in lieu of paper. See 18 CFR 385.2001(a)(1)(iii) and the instructions on the Commission's Web site under the “e-Filing” link. Please reference “Petenwell and Castle Rock Project, FERC Project No.1984-092” on any comments or motions filed. q. Agency Comments—Federal, State, and local agencies are invited to file comments on the described application. A copy of the application may be obtained by agencies directly from the applicant. If an agency does not file comments within the time specified for filing comments, it will be presumed to have no comments. One copy of an agency's comments must also be sent to the applicant's representatives.

Magalie R. Salas,
Secretary.

[FR Doc. 03-2883 Filed 2-5-03; 8:45 am]

BILLING CODE 6717-01-P